FEDERAL COMMUNICATIONS COMMISSION

47 CFR Part 73

[DA 06-1407; MB Docket No. 02-266; RM-10557]

Radio Broadcasting Services; Chillicothe, Dublin, Hillsboro, and Marion, OH

AGENCY: Federal Communications Commission.

ACTION: Final rule; denial of petition for reconsideration.

SUMMARY: The staff denied a petition for reconsideration filed by the Committee for Competitive Columbus Radio of a Report and Order in this proceeding, which had granted a rulemaking petition to reallot, downgrade, and change the communities of license for two Ohio radio stations. The staff determined that the reconsideration petition seeks to raise an argument that was previously rejected in the Report and Order and did not demonstrate any errors of fact or law.

FOR FURTHER INFORMATION CONTACT: Andrew J. Rhodes, Media Bureau, (202) 418-2180.

SUPPLEMENTARY INFORMATION: This is a synopsis of the Commission's Memorandum Opinion and Order, MM Docket No. 02-266, adopted July 5, 2006, and released July 7, 2006. The full text of this Commission decision is available for inspection and copying during normal business hours in the FCC Reference Information Center (Room CY-A257), 445 12th Street, SW., Washington, DC 20554. The complete text of this decision may also be purchased from the Commission's copy contractor, Best Copy and Printing, Inc., Portals II, 445 12th Street, SW., Room CY-B402, Washington, DC 20554, telephone 1-800-378-3160 or http://www.BCPIWEB.com.

In the Report and Order in this proceeding, the staff approved the reallotment, downgrade, and change of community of license for Station WMRN-FM from Channel 295B at Marion, Ohio to Channel 294B1 at Dublin, Ohio. To accommodate the Station WMRN-FM relocation to Dublin, the staff also granted the reallotment, downgrade, and change of community of license for Station WSRW-FM from Channel 294B at Hillsboro, Ohio, to Channel 293A at Chillicothe, Ohio. See 70 FR 19337 (April 13, 2005).

This document is not subject to the Congressional Review Act. (The Commission, is, therefore, not required to submit a copy of this Memorandum Opinion and Order to GAO, pursuant to the Congressional Review Act, see 5 U.S.C. 801(a)(1)(A) because the petition for reconsideration was denied.)

Federal Communications Commission.
John A. Karousos,
Assistant Chief, Audio Division, Media Bureau.

[FR Doc. E6-11421 Filed 7-18-06; 8:45 am]

BILLING CODE 6712-01-P